DEPARTMENT OF STATE

[Public Notice 5030]

Bureau of Consular Affairs, Passport Services, Office of Field Operations, Field Coordination Division; Notice of Information Collection Under Emergency Review: Form DS-4085, Application for Additional Visa Pages, OMB Control Number 1405-0159

AGENCY: Department of State.

ACTION: Notice of request for public comments and submission to OMB.

SUMMARY: The Department of State has submitted the following information collection request to the Office of Management and Budget (OMB) for review and approval in accordance with the emergency review procedures of the Paperwork Reduction Act of 1995.

Type of Request: Emergency Review.

Originating Office: Bureau of Consular Affairs, CA/PPT/FO/FC.

Title of Information Collection: Application for Additional Visa Pages.

Frequency: On occasion.

Form Number: DS-4085.

Respondents: Individuals or households.

Estimated Number of Respondents: 30,000 per year.

Average Hours per Response: 20 minutes.

Total Estimated Burden: 10,000 hours per year.

The proposed information collection is published to obtain comments from the public and affected agencies. Emergency review of this collection was granted by OMB January 13, 2005. The approval is valid until June 30, 2005.

Comments should be directed to the State Department Desk Officer, Office of Information and Regulatory Affairs, Office of Management and Budget (OMB), Washington, DC 20530, who may be reached on (202) 395-4718.

During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Margaret A. Dickson, U.S. Department of State, Office of Field Operations, 2100 Pennsylvania Avenue, NW., 3rd Floor, Washington, DC 20037, who may be reached on (202) 663-2460.

Dated: December 9, 2004.
Ann Barrett,
Deputy Assistant Secretary for Passport Service, Acting, Bureau of Consular Affairs, Department of State.

[FR Doc. 05-5589 Filed 3-18-05; 8:45 am]

BILLING CODE 4710-06-P